ADVISORY COUNCIL ON HISTORIC PRESERVATION

Extension of Public Comment Period on ACHP Formal Comments Regarding the Replacement of a Microwave Communications System in Mount Graham, AZ

AGENCY: Advisory Council on Historic Preservation.

ACTION: Extension of Public Comment Period.

SUMMARY: The Advisory Council on Historic Preservation has extended the public comment period regarding its upcoming issuance formal comments, under the National Historic Presevation Act, to the United States Forest Service regarding its intent to issue a special use permit for the replacement of a microwave communications system in Mount Graham, Arizona.

DATES: Comments must be received on or before February 6, 2006.

ADDRESSES: Address all comments to John L. Nau, III, Chairman, c/o Stephen Del Sordo, Advisory Council on Historic Preservation, 1100 Pennsylvania Avenue, NW., Suite 809, Washington, DC 20004. Fax (202) 606-8672. Comments may also be submitted by electronic mail to: sdelsordo@achp.gov.

FOR FURTHER INFORMATION CONTACT: Stephen Del Sordo, (202) 606-8580. E-mail: sdelsordo@achp.gov. Further information may be found in the ACHP Web site: http://www.achp.gov.

SUPPLEMENTARY INFORMATION: The Advisory Council on Historic Preservation (ACHP) has extended until February 6, 2006, the public comment period on the replacement of a microwave communications system in Mount Graham (undertaking).

Information on the undertaking was published in the Federal Register on January 9, 2006 (71 FR 1406-1407). That notice is available on the ACHP Web site at http://www.achp.gov.

The ACHP's membership will use the public input it receives to draft its formal comments to the Forest Service on the undertaking. The ACHP plans to finalize and transmit those comments to the Forest Service on or before February 21, 2006.

Dated: January 18, 2006.
John M. Fowler,
Executive Director.

[FR Doc. 06-602 Filed 1-23-06; 8:45 am]

BILLING CODE 4310-K6-M